DEPARTMENT OF HOMELAND SECURITY

Federal Emergency Management Agency

Compendium of Flood Map Changes

AGENCY: Federal Emergency Management Agency (FEMA), Emergency Preparedness and Response Directorate, Department of Homeland Security.

ACTION: Notice.

SUMMARY: This Notice provides listings of changes made to National Flood Insurance Program (NFIP) maps effective during the last 6 months of 2004.

DATES: The listings include changes to NFIP maps that became effective July 1, 2004, through December 31, 2004.

FOR FURTHER INFORMATION CONTACT: Doug Bellomo, P.E., Chief, Hazard Identification Section, FEMA, 500 C Street SW., Washington, DC 20472, (202) 646-2903.

SUPPLEMENTARY INFORMATION: In accordance with Section 1360(i) of the National Flood Insurance Reform Act of 1994, this Notice is provided to inform interested parties of changes made by FEMA to NFIP maps. The two listings provided show communities affected by map changes made by letter and communities affected by physical map changes. For each Letter of Map Change, the first listing provides the map panel(s) affected, effective (determination) date of the change, case number, and determination type. For each physical map change, the Map Revision listing provides the map panel(s) affected and the effective date of the change. The listing also identifies: (1) Those panels on which the Special Flood Hazard Areas have not been changed or have been changed only to incorporate the Letters of Map Change issued before the effective date; and (2) those panels for which a Flood Insurance Rate Map is produced for the first time, resulting only in changes to flood insurance and floodplain management requirements in the affected community. Future notices of changes to NFIP maps will be published approximately every 6 months.

Dated: May 19, 2005.
David I. Maurstad,
Acting Director, Mitigation Division, Emergency Preparedness and Response Directorate.

Two listings are provided below. The first listing includes all Letters of Map Change issued by FEMA from July 1 through December 31, 2004. The following types of letters are included in the listing:

Type | Description
01 | Letter of Map Revision Based on Fill.
02 | Letter of Map Amendment.
05 | Letter of Map Revision With Base Flood Elevation Changes.
06 | Letter of Map Revision Without Base Flood Elevation Changes.
08 | Denial.
12 | Floodway Revision.
17 | Letter of Map Revision-Inadvertent Inclusion in Floodway.
18 | Letter of Map Revision-Inadvertent Inclusion in V Zone.
19 | Letter of Map Change Revalidation.

The second listing includes map panels that FEMA physically revised and republished from July 1 through December 31, 2004. For those map panels on which the Special Flood Hazard Areas have not been changed or have been changed only to incorporate Letters of Map Change issued before the effective date, two asterisks (**) are shown to the right of the map panel number. For those map panels for which a Flood Insurance Rate Map is produced for the first time, resulting only in changes to flood insurance and floodplain management requirements in the affected community, three asterisks (***) are shown to the right of the map panel number.

For both listings, a single asterisk (*) is shown to the right of each county name that appears in the “Community” column. This asterisk indicates the area covered is the unincorporated areas of that county.

BILLING CODE 9110-12-P

[FR Doc. 05-10616 Filed 5-27-05; 8:45 am]

BILLING CODE 9110-12-C